DEPARTMENT OF HOUSING AND URBAN DEVELOPMENT

[Docket No. FR-7024-N-59]

30-Day Notice of Proposed Information Collection: Emergency Waivers Reporting; OMB Control No.: 2577-0292

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 19, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on September 23, 2020 at 85 FR 59816.

A. Overview of Information Collection

Title of Information Collection: Emergency Waivers Reporting.

OMB Approval Number: 2577-0292.

Type of Request: Extension of a currently approved collection.

Form Numbers: HUD-5883, HUD-5884, HUD-5885.

Description of the need for the information and proposed use: The purpose of this notice is to solicit public comment on the proposed Emergency Waivers Reporting.

In response to the national COVID-19 emergency, the Coronavirus Aid, Relief, and Economic Security Act (CARES Act) was enacted on March 27, 2020. The Act gives the Department the ability to waive regulatory and statutory provisions that apply to Public Housing Agencies (PHAs). Specifically, the CARES Act allows the Secretary of HUD to “waive, or specify alternative requirements for, any provision of any statute or regulation (except for requirements related to fair housing, nondiscrimination, labor standards, and the environment) . . . . upon a finding by the Secretary that any such waivers or alternative requirements are necessary for the safe and effective administration of these funds . . . to prevent, prepare for, and respond to coronavirus.”

HUD issued a notice detailing the waivers available in response to the COVID-19 crisis, posted on April 10, 2020, as PIH Notice 2020-05. This notice states: PHAs are required to keep written documentation that record which waivers the PHA applied to their programs(s) and the effective dates.

In response to presidentially declared Major Disaster Declarations (MDDs), FR-6050-N-04 is: Relief from HUD Public Housing and Section 8 Requirements Available During CY2020 and CY2021 to Public Housing Agencies to Assist with Recovery and Relief Efforts. This notice lists the specific waivers and relief options available for use by PHAs.

No respondent is mandated to use a waiver but use of the waivers is encouraged by HUD in response to specific emergencies to reduce burdens and administrative requirements. The notice announcing the availability of waivers becomes the checklist which respondents use to note responses as to which waivers they elected to use and their start date.

Estimation of the total numbers of hours needed to prepare the information collection including number of respondents, frequency of responses, and hours of response:

Information collection | Number of respondents | Frequency of response | Responses per annum | Burden hour per response | Annual burden hours | Hourly cost | Total annual cost
HUD-5883 | 3,800 | 1 | 3,800 | 1 | 3,800 | 36.86 | $140,068
HUD-5884 | 300 | 1 | 300 | 1 | 300 | 36.86 | 11,058
HUD-5885 | 1,000 | 1 | 1,000 | 1 | 1,000 | 36.86 | 36,860
Total | 5,100 | 1 | 5,100 | 1 | 5,100 | 36.86 | 187,986

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions

C. Authority

Section 3507 of the Paperwork Reduction Act of 1995, 44 U.S.C. Chapter 35.

Colette Pollard,
Department Reports Management Officer, Office of the Chief Information Officer.

[FR Doc. 2020-27770 Filed 12-16-20; 8:45 am]

BILLING CODE 4210-67-P